ENVIRONMENTAL PROTECTION AGENCY

[FRL-6602-4]

Adequacy Status of the Submitted Revised Carbon Monoxide Attainment Demonstration for the New Jersey Portion of the New York-Northern New Jersey-Long Island Moderate Carbon Monoxide Nonattainment Area

AGENCY: Environmental Protection Agency (EPA).

ACTION: Notice of adequacy.

SUMMARY: In this document, EPA is notifying the public that we have found that the motor vehicle emissions budget for carbon monoxide in the submitted revised attainment demonstration for the New Jersey portion of the New York-Northern New Jersey-Long Island nonattainment area is adequate for transportation conformity purposes. On March 2, 1999, the D.C. Circuit Court ruled that submitted SIPs cannot be used for conformity determinations until EPA has affirmatively found them adequate. As a result of our finding, the New Jersey portion of the New York-Northern New Jersey-Long Island nonattainment area must use the motor vehicle emission budget from this submitted revised carbon monoxide attainment demonstration for future conformity determinations.

DATES: This finding is effective May 23, 2000.

FOR FURTHER INFORMATION CONTACT: Matthew B. Cairns, Mobile Source Team, Air Programs Branch, Environmental Protection Agency—Region 2, 290 Broadway, 25th Floor, New York New York 10007-1866, (212) 637-3895, cairns.matthew@epa.gov.

The finding and the response to comments will be available at EPA's conformity website: http://www.epa.gov/oms/traq, (once there, click on the “Conformity” button, then look for “Adequacy Review of SIP Submissions for Conformity”).

SUPPLEMENTARY INFORMATION:

Background

Today's document is simply an announcement of a finding that we have already made. EPA Region 2 sent a letter to the New Jersey Department of Environmental Protection on April 6, 2000, stating that the motor vehicle emissions budget for carbon monoxide in the submitted revised attainment demonstration (dated December 10, 1999) for the New Jersey portion of the New York-Northern New Jersey-Long Island nonattainment area is adequate for transportation conformity purposes. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described out process for determining the adequacy of submitted SIP budgets in guidance (May 14, 1999 memo titled “Conformity Guidance on Implementation of March 2, 1999 Conformity Court Decision”). We followed this guidance in making our adequacy determination.

Authority: 42 U.S.C. 7401-7671 q.

Dated: April 6, 2000.
William J. Muszynski,
Acting Regional Administrator, Region 2.

[FR Doc. 00-11432 Filed 5-5-00; 8:45 am]

BILLING CODE 6560-50-U